DEPARTMENT OF LABOR

[TA-W-57,746B]

Employment and Training Administration

Joan Fabrics Corporation, Mastercraft Fabrics LLC, Oakland Plant; Spindale, NC; Amended Certification Regarding Eligibility To Apply for Worker Adjustment Assistance and Alternative Trade Adjustment Assistance

In accordance with Section 223 of the Trade Act of 1974 (19 U.S.C. 2273), and Section 246 of the Trade Act of 1974, as amended, the Department of Labor issued a Certification of Eligibility to Apply for Worker Adjustment Assistance and Alternative Trade Adjustment Assistance on September 27, 2005, applicable to workers of Joan Fabrics Corporation, Mastercraft Fabrics, LLC, Oakland Plant, Spindale, North Carolina. The notice was published in the Federal Register on October 31, 2005 (70 FR 72347).

At the request of the State agency, the Department reviewed the certification for workers of the subject firm. The workers produce jacquard furniture fabric.

The review shows that there was a typographical error regarding the impact date which was set at November 21, 2005. It was the Department's intent to set the TAA eligibility impact date at November 11, 2005, the day following the expiration of the previous TAA certification (TA-W-53,285) issued for this worker group. To correct this error, the Department is amending the certification for TA-W-57,746B to set the impact date for eligibility to apply for TAA at November 11, 2005. The impact date regarding worker group eligibility to apply for ATAA remains set at August 5, 2004.

The amended notice applicable to TA-W-57,746B is hereby issued as follows:

“All workers of Joan Fabrics Corporation, Mastercraft Fabrics, LLC, Oakland Plant, Spindale, North Carolina (TA-W-57,746B) who became totally or partially separated from employment on or after November 11, 2005 through September 27, 2007, are eligible to apply for adjustment assistance under Section 223 of the Trade Act of 1974. Workers of the Oakland Plant who became totally or partially separated from employment on or after August 5, 2004 through September 27, 2007, are also eligible to apply for alternative trade adjustment assistance under Section 246 of the Trade Act of 1974.”

Signed at Washington, DC, this 23rd day of November 2005.
Richard Church,
Certifying Officer, Division of Trade Adjustment Assistance.

[FR Doc. E5-7048 Filed 12-7-05; 8:45 am]

BILLING CODE 4510-30-P